DEPARTMENT OF COMMERCE

Foreign-Trade Zones Board

[Docket 47-99]

Foreign-Trade Zone 207—Richmond International Airport, Virginia, Withdrawal of Application for Subzone Status for Alfa Laval Thermal, Inc., Heat Exchangers and Parts Manufacturing Facilities in Richmond, Virginia Area

Notice is hereby given of the withdrawal of the application submitted by the Capital Region Airport Commission, grantee of FTZ 207, requesting special-purpose subzone status for the manufacturing facilities (heat exchangers and parts) of Alfa Laval Thermal, Inc., located at sites in the Richmond, Virginia, area. The application was filed on October 14, 1999 (64 FR 57627, 10/26/99).

The withdrawal was requested because of changed circumstances, and the case has been closed without prejudice.

Dated: May 18, 2001.
Dennis Puccinelli,
Executive Secretary.

[FR Doc. 01-13682 Filed 5-30-01; 8:45 am]

BILLING CODE 3510-DS-P